DEPARTMENT OF THE INTERIOR

Bureau of Land Management

[NM-030-1430-EU; NMNM24542: NMNM104097]

Notice of Realty Action (NORA); Notice of Termination of Recreation and Public Purposes Classification, Opening Order, and Direct Sale of Public Lane: New Mexico

AGENCY: Bureau of Land Management (BLM), Interior.

ACTION: Notice.

SUMMARY: This notice terminates Recreation and Public Purposes Classification (R&PP) NMNM 24542 in its entirety and opens the surface and mineral estate to entry for direct sale pursuant to sections 203 and 209 of the Federal Land Policy and Management Act (FLPMA) of 1976 (43 U.S.C. 1713, 1719).

DATES: Termination of the Classification is effective upon publication of this notice. The land will be open to entry at 8 a.m. on September 25, 2000.

ADDRESSES: BLM, Las Cruces Field Office, 1800 Marquess, Las Cruces, New Mexico 88005-3371.

FOR FURTHER INFORMATION CONTACT: Tim Sanders, Supervisory Multi-Resource Specialist, (505) 525-4373.

SUPPLEMENTARY INFORMATION: the original R&PP Lease was issued on December 31, 1975, to Our Lady's Youth Center. The lease terminated on June 10, 1997. Our Lady's Youth Center was afforded the opportunity to purchase the surface and mineral estate at fair market value. A NORA was published in the Federal Register on May 24, 1999 (Volume 64, Number 99, Pages 28006-7) announcing the suitability of the land for direct sale, at no less than fair market value. The land is described as follows:

New Mexico Principal Meridian

T. 25 S., R. 3 E.,

Sec. 13, S½

Containing 320.00 acres, more or less.

The sale is in conformance with the Draft Resource Management Plan Amendment/Environmental Assessment. The land will continue to be used as part of Our Lady's Youth Center located on the adjacent private land. The disposal/classification is consistent with the Bureau's planning efforts, State and local government programs, and applicable regulations.

The land has been examined and found suitable for disposal by direct sale pursuant to sections 203 and 209 of FLPMA of 1976 (43 U.S.C. 1713, 1716). The direct sale will be subject to:

1. A reservation to the United States of right-of-way for ditches or canals constructed by the authority of the United States in accordance with the Act of August 30, 1890 (43 U.S.C. 945).

Interested parties may submit comments regarding the proposed direct sale or termination of the R&PP Classification to the BLM Las Cruces field Office Manager, 1800 Marquess, Las Cruces, NM 88005-3371. Any adverse comments will be reviewed by the BLM Las Cruces Field Office Manager at the above address, who may sustain, vacate, or modify this realty action. In the absence of any adverse comments, this realty action becomes the final determination of the Department of the Interior.

Dated: August 4, 2000.
Amy L. Lueders,
Field Manager, Las Cruces.

[FR Doc. 00-20366 Filed 8-10-00; 8:45 am]

BILLING CODE 4310-VC-M